DEPARTMENT OF COMMERCE

National Oceanic and Atmospheric Administration

[I.D. 042602E]

Magnuson Stevens Act Provisions; Essential Fish Habitat; Public Meeting

AGENCY: National Marine Fisheries Service (NMFS), National Oceanic and Atmospheric Administration (NOAA), Commerce.

ACTION: Notification of public meeting.

SUMMARY: The NPFMC will hold an essential fish habitat (EFH) Steering Committee (EFH Committee) meeting May 15-17, 2002. The EFH Committee will discuss the following: fishery descriptions, EFH alternatives, habitat areas of particular concern (HAPC) alternatives, specific HAPC sites and HAPC types. HAPC criteria, mitigation tools, research needs and adaptive management, and key terms in the EFH final rule including: “to the extent practicable” and “minimal and temporary.”

DATES: The EFH Committee meeting will be held on Wednesday, May 15, 2002, from 1 to 5:30 p.m.; on Thursday, May 16, 2002, from 8:30 a.m. to 5:30 p.m.; on Friday, May 17, 2002, from 8:30 a.m. to 4 p.m.

ADDRESSES: The EFH Committee meeting will be in Sitka, Alaska at the Northern Southeast Regional Aquaculture Association (NSRAA), 1308 Sawmill Creek Road. For directions call NSRAA at 907-747-6850.

FOR FURTHER INFORMATION CONTACT: Cindy Hartmann, NMFS, Habitat Conservation Division, 709 West 9th, Suite 801, P.O. Box 21668, Juneau, Alaska, 99802-1668, 907-586-7585 e-mail: Cindy.Hartmann@noaa.gov; or Cathy Coon, NPFMC, 605 West 4th Avenue, Suite 306, Anchorage, Alaska, 99501-2252, 907-271-2809, e-mail: Cathy.Coon@noaa.gov.

SUPPLEMENTARY INFORMATION:

Background

The EFH Committee was formally established by the Chair of the NPFMC in May 2001. The EFH Committee was established in response to the need to prepare a supplemental environmental impact statement (SEIS) for the EFH fishery management plan amendments. The function of the EFH Committee is to serve as a steering committee in facilitating input to NMFS on the SEIS for EFH. The EFH Committee will provide input to NMFS and the Council from industry, the conservation community, and general public as appropriate. The EFH Committee also will submit periodic updates to the Council on the SEIS for EFH. Further information on the EFH Committee can be found on the NPFMC website at: http://www.fakr.noaa.gov/npfmc/Committees/EFH/efh.htm.

Agenda items for the May 2002 EFH Committee meeting include: finalizing fishery descriptions; review and discussion of revised EFH and HAPC alternatives; discussion of gear impacts on habitat; discussion of potential mitigation tools for each fishery; discussion of HAPC criteria and possible nomination of HAPC sites and types or a development of a nomination and evaluation process for HAPC sites and types; research needs; adaptive management; effects of rationalization; and key terms in the EFH final rule will be discussed including the terms” “to the extent practicable” and “minimal and temporary.” The EFH Committee will develop recommendations for the June NPFMC meeting on some or all of the agenda items listed above. The EFH Committee also will discuss plans for future tasks and meetings.

For further information about the EFH SEIS, see the Notice of Intent to prepare an SEIS published to the Proposed Rules section of the Federal Register (66 FR 30396, June 6, 2001). For further information on the preliminary alternative approaches for the designation of EFH and habitat areas of particular concern (HAPC) see 67 FR 1325, January 10, 2002.

Although other issues not contained in this agenda may come before the EFH Committee for discussion, those issues will not be the subject of formal action during this meeting. Formal action will be restricted to those issues specifically identified in this notice and any issues arising after publication of the notice that require emergency action under section 305(c) of the Magnuson-Stevens Fishery Conservation and Management Act, provided the public has been notified of the Committee’s intent to take final action to address the emergency.

Special Accommodations

This meeting is physically accessible to people with disabilities. Requests for sign language interpretation or other auxiliary aids should be directed to Cindy Hartmann, 907-586-7235, at least 5 working days prior to the meeting date.

Authority: 16 U.S.C. 1801 et seq.

Dated: April 26, 2002.
Matteo Milazzo,
Acting Director, Office of Sustainable Fisheries, National Marine Fisheries Service.

[FR Doc. 02-10774 Filed 4-30-02; 8:45 am]

BILLING CODE 3510-22-S